SUSQUEHANNA RIVER BASIN COMMISSION

Public Hearing

AGENCY: Susquehanna River Basin Commission.

ACTION: Notice.

SUMMARY: The Susquehanna River Basin Commission will hold a public hearing on August 13, 2020. Due to the COVID-19 situation and the relevant orders in place in the Commission's member jurisdictions, the Commission will hold this meeting telephonically. At this public hearing, the Commission will hear testimony on the projects listed in the SUPPLEMENTARY INFORMATION section of this notice. Such projects and proposals are intended to be scheduled for Commission action at its next business meeting, tentatively scheduled for September 18, 2020, which will be noticed separately. The public should take note that this public hearing will be the only opportunity to offer oral comment to the Commission for the listed projects and proposals. The deadline for the submission of written comments is August 24, 2020.

DATES: The public hearing will convene on August 13, 2020, at 2:30 p.m. The public hearing will end at 5:00 p.m. or at the conclusion of public testimony, whichever is sooner. The deadline for the submission of written comments is August 24, 2020.

ADDRESSES: This hearing will be held by telephone rather than at a physical location. Conference Call #1-888-387-8686, the Conference Room Code #9179686050.

FOR FURTHER INFORMATION CONTACT: Jason Oyler, General Counsel and Secretary to the Commission, telephone: (717) 238-0423; fax: (717) 238-2436.

Information concerning the applications for these projects is available at the Commission's Water Application and Approval Viewer at https://www.srbc.net/waav. Additional supporting documents are available to inspect and copy in accordance with the Commission's Access to Records Policy at www.srbc.net/regulatory/policies-guidance/docs/access-to-records-policy-2009-02.pdf.

SUPPLEMENTARY INFORMATION: The public hearing will cover the following projects.

Projects Scheduled for Action

1. Project Sponsor and Facility: Bloomfield Borough Water Authority, Centre Township, Perry County, Pa. Application for renewal of groundwater withdrawal of up to 0.056 mgd (30-day average) from Well 1 (Docket No. 19901103).

2. Project Sponsor: Byler Golf Management, Inc. Project Facility: Iron Valley Golf Club, Cornwall Borough, Lebanon County, Pa. Modification to change consumptive use mitigation method (Docket No. 19981206).

3. Project Sponsor and Facility: Cabot Oil & Gas Corporation, Eaton Township, Wyoming County, Pa. Application for renewal of groundwater withdrawal of up to 0.864 mgd (30-day average) from the Hatchery Wellfield (Wells 1, 2, and 3) (Docket No. 20160610).

4. Project Sponsor and Facility: Cabot Oil & Gas Corporation (Susquehanna River), Great Bend Township, Susquehanna County, Pa. Application for renewal of surface water withdrawal of up to 2.000 mgd (peak day) (Docket No. 20160902).

5. Project Sponsor and Facility: Chesapeake Appalachia, L.L.C. (Susquehanna River), Wilmot Township, Bradford County, Pa. Application for surface water withdrawal of up to 3.000 mgd (peak day).

6. Project Sponsor and Facility: Chesapeake Appalachia, L.L.C. (Susquehanna River), Windham Township, Wyoming County, Pa. Application for surface water withdrawal of up to 3.000 mgd (peak day).

7. Project Sponsor and Facility: Chesapeake Appalachia, L.L.C. (Wyalusing Creek), Wyalusing Township, Bradford County, Pa. Application for surface water withdrawal of up to 3.000 mgd (peak day).

8. Project Sponsor and Facility: Green Leaf Water LLC (Lycoming Creek), Lewis Township, Lycoming County, Pa. Application for renewal of surface water withdrawal of up to 0.900 mgd (peak day) (Docket No. 20160601).

9. Project Sponsor and Facility: Lake Meade Municipal Authority, Reading Township, Adams County, Pa. Application for groundwater withdrawal of up to 0.252 mgd (30-day average) from Well 3.

10. Project Sponsor and Facility: Meadia Heights Golf Club LLC, West Lampeter Township, Lancaster County, Pa. Modification to change consumptive use mitigation method (Docket No. 20000204).

11. Project Sponsor and Facility: Montgomery Water Authority, Clinton Township, Lycoming County, Pa. Application for renewal of groundwater withdrawal of up to 0.267 mgd (30-day average) from Well 1 (Docket No. 19881102).

12. Project Sponsor: Pixelle Specialty Solutions LLC. Project Facility: Spring Grove Mill (Codorus Creek and Unnamed Tributary to Codorus Creek), Spring Grove Borough, Jackson Township, and North Codorus Township, York County, Pa. Applications for existing surface water withdrawals (peak day) of up to 19.800 mgd (New Filter Plant Intake), 6.000 mgd (Old Filter Plant Intake), and 0.750 mgd (Kessler Pond Intake); consumptive use of up to 3.650 mgd (peak day); and existing groundwater withdrawals (30-day average) of up to 0.039 mgd (Well 1) and 0.021 mgd (Well 2). Proposed action to include combining all existing and new approvals into a single approval document with a single approval term.

13. Project Sponsor and Facility: Repsol Oil & Gas USA, LLC (Susquehanna River), Sheshequin Township, Bradford County, Pa. Application for renewal of surface water withdrawal of up to 1.500 mgd (peak day) (Docket No. 20160908).

14. Project Sponsor and Facility: S.T.L. Resources, LLC (West Branch Susquehanna River), Grugan Township, Clinton County, Pa. Application for surface water withdrawal of up to 3.450 mgd (peak day).

15. Shippensburg Borough Authority, Southampton Township, Cumberland County, Pa. Application for renewal of groundwater withdrawal of up to 1.280 mgd (30-day average) from Well 1 (Docket No. 19900713).

16. Project Sponsor: Togg Mountain, LLC. Project Facility: Toggenburg Mountain Winter Sports Center (West Branch Tioughnioga Creek), Town of Fabius, Onondaga County, N.Y. Modification to increase consumptive use (peak day) by an additional 0.505 mgd, for a total consumptive use of up to 0.990 mgd, and increase surface water withdrawal (peak day) by an additional 2.300 mgd, for a total surface water withdrawal of up to 4.500 mgd (Docket No. 20180911).

Commission-Initiated Project Approval Modifications

1. Project Sponsor and Facility: The Municipal Authority of the Borough of Berlin, Allegheny Township, Somerset County, Pa. Conforming the grandfathering amount with the forthcoming determination for a groundwater withdrawal up to 0.030 mgd (30-day average) from Well 6 (Docket No. 19980702).

2. Project Sponsor and Facility: Iron Masters Country Club, Bloomfield Township, Bedford County, Pa. Conforming the grandfathering amount with the forthcoming determination for groundwater withdrawals up to 0.051 mgd (30-day average) from Well 10 and up to 0.061 mgd (30-day average) from Well 14 (Docket No. 20020813).

3. Project Sponsor and Facility: Sinking Valley Country Club, Tyrone Township, Blair County, Pa. Conforming the grandfathering amount with the forthcoming determination for groundwater withdrawals up to 0.081 mgd (30-day average) from the 14th Fairway Well and up to 0.099 mgd (30-day average) from the 8th Tee Well (Docket No. 20020811).

Opportunity To Appear and Comment

Interested parties may call into the hearing to offer comments to the Commission on any business listed above required to be subject of a public hearing. Given the telephonic nature of the meeting, the Commission strongly encourages those members of the public wishing to provide oral comments to pre-register with the Commission by emailing Jason Oyler at joyler@srbc.net prior to the hearing date. The presiding officer reserves the right to limit oral statements in the interest of time and to otherwise control the course of the hearing. Access to the hearing via telephone will begin at 2:15 p.m. Guidelines for the public hearing are posted on the Commission's website, www.srbc.net, prior to the hearing for review. The presiding officer reserves the right to modify or supplement such guidelines at the hearing. Written comments on any business listed above required to be subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before August 24, 2020, to be considered.

Authority: Pub. L. 91-575, 84 Stat. 1509 et seq., 18 CFR parts 806, 807, and 808.

Dated: July 14, 2020.
Jason E. Oyler,
General Counsel and Secretary to the Commission.

[FR Doc. 2020-15521 Filed 7-16-20; 8:45 am]

BILLING CODE 7040-01-P